DEPARTMENT OF ENERGY

Federal Energy Regulatory Commission

[Project No. 11541-000, Idaho]

Atlanta Power Station, Notice of Meeting

February 26, 2002.

A telephone conference will be convened by staff of the Office of Energy Projects on March 18, 2002, at 1 p.m. eastern standard time. The purpose of the meeting is to discuss Section 18 prescriptions in the November 10, 1999, letter from the U.S. Department of the Interior, Fish and Wildlife Service.

Any person wishing to be included in the telephone conference should contact Gaylord W. Hoisington at (202) 219-2756 or e-mail at gaylord.hoisington@ferc.fed.us. Please notify Mr. Hoisington by March 12, 2002, if you want to be included in the telephone conference.

Linwood A. Watson, Jr.,
Deputy Secretary.

[FR Doc. 02-5057 Filed 3-1-02; 8:45 am]

BILLING CODE 6717-01-P